DEPARTMENT OF LABOR

Employment and Training Administration

[TA-W-57,805]

Edward Fields, Inc. Currently Known As Jack & Joel, Inc., College Point, NY; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility to Apply for Worker Adjustment Assistance and Alternative Trade Adjustment Assistance on September 23, 2005, applicable to workers of Edward Fields, Inc., College Point, New York. The notice was published in the Federal Register on October 31, 2005 (70 FR 62347).

At the request of the State agency, the Department reviewed the certification for workers of the subject firm. The workers are engaged in the production of custom made carpets and rugs.

The subject firm originally named Edward Fields, Inc., was renamed Jack & Joel, Inc. in April 2005 due to a change in ownership. The State agency reports that workers wages at the subject firm are being reported under the Unemployment Insurance (UI) tax account for Jack & Joel, Inc., College Point, New York.

Accordingly, the Department is amending the certification to properly reflect this matter.

The intent of the Department's certification is to include all workers of Edward Fields, Inc. who were adversely affected by increased company imports.

The amended notice applicable to TA-W-57,805 is hereby issued as follows:

All workers of Edward Fields, Inc., currently known as Jack & Joel, Inc., College Point, New York, who became totally or partially separated from employment on or after July 28, 2004, through September 23, 2007, are eligible to apply for adjustment assistance under section 223 of the Trade Act of 1974, and are also eligible to apply for alternative trade adjustment assistance under section 246 of the Trade Act of 1974.

Signed at Washington, DC, this 31st day of October 2005.
Linda G. Poole,
Certifying Officer, Division of Trade Adjustment Assistance.

[FR Doc. E5-6460 Filed 11-22-05; 8:45 am]

BILLING CODE 4510-30-P